SECURITIES AND EXCHANGE COMMISSION

[Release No. IC-25831]

Notice of Applications for Deregistration Under Section 8(f) of the Investment Company Act of 1940

November 22, 2002.

The following is a notice of applications for deregistration under section 8(f) of the Investment Company Act of 1940 for the month of November, 2002. A copy of each application may be obtained for a fee at the SEC's Public Reference Branch, 450 Fifth St., NW., Washington, DC 20549-0102 (tel. 202-942-8090). An order granting each application will be issued unless the SEC orders a hearing. Interested persons may request a hearing on any application by writing to the SEC's Secretary at the address below and serving the relevant applicant with a copy of the request, personally or by mail. Hearing requests should be received by the SEC by 5:30 p.m. on December 17, 2002, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW., Washington, DC 20549-0609. For Further Information Contact: Diane L. Titus at (202) 942-0564, SEC, Division of Investment Management, Office of Investment Company Regulation, 450 Fifth Street, NW, Washington, DC 20549-0506.

Mercury Mid Cap Growth Fund, Inc. [File No. 811-10129]

Summary: Applicant, a feeder fund in a master-feeder structure, seeks an order declaring that it has ceased to be an investment company. By February 11, 2002, all of applicant's shareholders had redeemed their shares at net asset value. Expenses of $13,000 incurred in connection with the liquidation were paid by applicant.

Filing Dates: The application was filed on September 17, 2002, and amended on October 25, 2002, and November 19, 2002.

Applicant's Address: Fund Asset Management, L.P., 800 Scudders Mill Rd., Plainsboro, NJ 08536.

Mercury Premier Growth Fund, Inc. [File No. 811-9823]

Summary: Applicant, a feeder fund in a master-feeder structure, seeks an order declaring that it has ceased to be an investment company. On October 29, 2001, applicant's sole shareholder, Fund Asset Management, L.P., redeemed its shares at net asset value. Expenses of $14,500 incurred in connection with the liquidation were paid by applicant.

Filing Dates: The application was filed on September 17, 2002, and amended on October 25, 2002, and November 19, 2002.

Applicant's Address: Fund Asset Management, L.P., 800 Scudders Mill Rd., Plainsboro, NJ

Mercury Focus Twenty Fund, Inc. [File No. 811-9825]

Summary: Applicant, a feeder fund in a master-feeder structure, seeks an order declaring that it has ceased to be an investment company. On March 25, 2002, applicant's sole shareholder, Fund Asset Management, L.P., redeemed its shares at net asset value. Expenses of approximately $11,491 incurred in connection with the liquidation were paid by applicant.

Filing Dates: The application was filed on March 28, 2002, and amended on October 30, 2002, and November 29, 2002.

Applicant's Address: Mercury Advisors, 800 Scudders Mill Rd., Plainsboro, NJ 08536.

Prudential High Yield Total Return Fund, Inc. [File No. 811-8101]

Summary: Applicant seeks an order declaring that it has ceased to be an investment company. On March 20, 2002, applicant transferred its assets to Prudential High Yield Fund, Inc., based on net asset value. Expenses of $129,179 incurred in connection with the reorganization were paid pro rata by applicant and the acquiring fund.

Filing Dates: The application was filed on August 19, 2002, and amended on November 14, 2002.

Applicant's Address: Gateway Center Three, 100 Mulberry St., Newark, NJ 07102.

Prudential Mortgage Income Fund, Inc. [File No. 811-3397]

Summary: Applicant seeks an order declaring that it has ceased to be an investment company. On January 22, 1999, applicant transferred its assets to Prudential Government Income Fund Inc., based on net asset value. Expenses of $152,000 incurred in connection with the reorganization were paid pro rata by applicant and the acquiring fund.

Filing Dates: The application was filed on August 19, 2002, and amended on November 14, 2002.

Applicant's Address: Gateway Center Three, 100 Mulberry St., Newark, NJ 07102.

Managed Municipals Portfolio II Inc. [File No. 811-7046]

Summary: Applicant, a closed-end investment company, seeks an order declaring that it has ceased to be an investment company. On April 29, 2002, applicant transferred its assets to Managed Municipals Portfolio Inc., based on net asset value. Expenses of $131,000 incurred in connection with the reorganization were paid by applicant and the acquiring fund.

Filing Date: The application was filed on October 28, 2002.

Applicant's Address: 125 Broad St., New York, NY 10004.

SSBCiti Funds Inc. [File No. 811-9513]

Summary: Applicant seeks an order declaring that it has ceased to be an investment company. On October 1, 2002, applicant made a final liquidating distribution to its shareholders, based on net asset value. Expenses of $39,646 incurred in connection with the liquidation were paid by applicant's investment adviser, Salomon Brothers Asset Management Inc.

Filing Date: The application was filed on October 11, 2002.

Applicant's Address: 125 Broad St., New York, NY 10004.

Century Shares Trust [File No. 811-19]

Summary: Applicant seeks an order declaring that it has ceased to be an investment company. On July 31, 2001, applicant transferred its assets to Century Capital Management Trust, based on net asset value. Expenses of $114,207 incurred in connection with the reorganization were paid by applicant and Century Capital Management, Inc., applicant's investment adviser.

Filing Date: The application was filed on October 11, 2002.

Applicant's Address: Steven Alfano, c/o Century Capital Management, Inc., One Liberty Sq., Boston, MA 02109.

Nations Fund Trust [File No. 811-4305]; Nations Fund, Inc. [File No. 811-4614]; The Capitol Mutual Funds d/b/a Nations Reserves [File No. 811-6030]

Summary: Each applicant seeks an order declaring that it has ceased to be an investment company. On May 10, 2002, and May 17, 2002, each applicant transferred its assets to corresponding series of Nations Funds Trust, based on net asset value. Expenses of $2,018,171, $296,867 and $1,763,782, respectively, incurred in connection with the reorganizations were paid by each applicant and Banc of America Advisors, LLC, applicants' investment adviser.

Filing Date: The applications were filed on October 18, 2002.

Applicants' Address: 111 Center St., Suite 300, Little Rock, AR 72201.

Bailard, Biehl & Kaiser Fund Group [File No. 811-4828]

Summary: Applicant seeks an order declaring that it has ceased to be an investment company. On September 26, 2002, applicant made a liquidating distribution to its shareholders based on net asset value. Applicant has retained $52,073 to cover accrued but unpaid liabilities. Bailard, Biehl & Kaiser, Inc., applicant's investment adviser, paid all expenses incurred in connection with the liquidation.

Filing Date: The application was filed on October 9, 2002.

Applicant's Address: 950 Tower Ln., Suite 1900, Foster City, CA 94404.

Georgia Daily Municipal Income Fund, Inc. [File No. 811-8425]

Summary: Applicant seeks an order declaring that it has ceased to be an investment company. On August 8, 2002, applicant made a liquidating distribution to its sole shareholder, based on net asset value. Expenses of $4,000 incurred in connection with the liquidation were paid by Reich & Tang Asset Management, LLC, applicant's investment adviser.

Filing Date: The application was filed on October 11, 2002.

Applicant's Address: 600 Fifth Ave., New York, NY 10020.

LaSalle Master Trust [File No. 811-8597]

Summary: Applicant seeks an order declaring that it has ceased to be an investment company. On June 10, 2002, applicant made a liquidating distribution to its shareholders, based on net asset value. Expenses of $15,000 incurred in connection with the liquidation were paid by LaSalle Investment Management (Securities), L.P., applicant's investment adviser.

Filing Date: The application was filed on November 1, 2002.

Applicant's Address: 100 East Pratt Street, Baltimore, MD 21202.

Merrill Lynch KECALP L.P. 1987 [File No. 811-4979]; Merrill Lynch KECALP L.P. 1989 [File No. 811-5714]

Summary: Each applicant, a closed-end investment company, seeks an order declaring that it has ceased to be an investment company. On May 31, 2000, each applicant made a liquidating distribution to its shareholders, based on net asset value. Expenses of $60,254 and $58,458, respectively, incurred in connection with the liquidations were paid by each applicant and KECALP Inc., investment adviser to the applicants.

Filing Date: The applications were filed on November 5, 2002.

Applicants' Address: 4 World Financial Center, 23rd Floor, New York, NY 10080.

Franklin Asset Allocation Fund [File No. 811-730]

Summary: Applicant seeks an order declaring that it has ceased to be an investment company. On February 8, 2001, each class of applicant transferred its assets to a corresponding class of Franklin Growth and Income Fund, based on net asset value. Expenses of $35,010 incurred in connection with the reorganization were paid by applicant, the acquiring fund and Franklin Advisers, Inc., investment adviser to applicant and the acquiring fund.

Filing Dates: The application was filed on August 22, 2002, and amended on October 29, 2002.

Applicant's Address: One Franklin Parkway, San Mateo, CA 94403-1906.

North Carolina Daily Municipal Income Fund, Inc. [File No. 811-6344]

Summary: Applicant seeks an order declaring that it has ceased to be an investment company. On July 9, 2002, applicant made a liquidating distribution to its sole shareholder based on net asset value. Expenses of $4,000 incurred in connection with the liquidation were paid by Reich & Tang Asset Management, LLC, applicant's investment adviser.

Filing Date: The application was filed on October 9, 2002.

Applicant's Address: 600 Fifth Ave., New York, NY 10020.

Alliance International Fund [File No. 811-3130]

Summary: Applicant seeks an order declaring that it has ceased to be an investment company. On August 23, 2002, applicant transferred its assets to AllianceBernstein International Value Fund of AllianceBernstein Trust, based on net asset value. Expenses of $324,020 incurred in connection with the reorganization were paid by applicant and Alliance Capital Management, L.P., applicant's investment adviser.

Filing Date: The application was filed on October 9, 2002.

Applicant's Address: 1345 Avenue of the Americas, New York, NY 10105.

For the Commission, by the Division of Investment Management, pursuant to delegated authority.
Margaret H. McFarland,
Deputy Secretary.

[FR Doc. 02-30195 Filed 11-27-02; 8:45 am]

BILLING CODE 8010-01-P